DEPARTMENT OF THE INTERIOR

Fish and Wildlife Service

Notice of Receipt of Applications for Permit

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address below) and must be received within 30 days of the date of this notice.

Applicant: Tom Szafranski, Troy, OH, PRT-048293.

The applicant requests a permit to import the sport-hunted trophy of one male bontebok (Damaliscus pygargus dorcas) culled from a captive herd maintained under the management program of the Republic of South Africa, for the purpose of enhancement of the survival of the species

Applicant: Jorge L. Del Rosal, Coral Gables, FL, PRT-048245.

The applicant requests a permit to import the sport-hunted trophy of one male bontebok (Damaliscus pygargus dorcas) culled from a captive herd maintained under the management program of the Republic of South Africa, for the purpose of enhancement of the survival of the species.

Applicant: Dirk Arthur & Jan Giacinto, Las Vegas, NV, PRT-704301.

The applicants request the re-issuance of their permit to export, re-export and re-import tigers (Panthera tigris), African leopards (Panther pardus), and jaguars (Panthera onca) and progeny of the animals currently held by the applicant and any animals acquired in the United States by the applicant to/from worldwide locations to enhance the survival of the species through conservation education. This notification covers activities conducted by the applicant over a three year period.

Applicant: Pablo Quinones, Pelham, AL, PRT-045849.

The applicant request a permit to export live captive born Swinhoe's pheasants (Lophura swinhoii), Humes bartail pheasants (Syrmaticus humiae). Mikado pheasants (Syrmaticus mikado), Elliot's pheasants (Syrmaticus ellioti) to Quito, Ecuador for scientific research purposes and to enhance the survival of the species through propagation.

Applicant: U.S. Geological Survey, National Wildlife Health Center, Madison, WI, PRT-048370.

The applicant requests a permit to import multiple shipments of biological samples from wild, captive-held, and captive-born endangered species for the purpose of scientific research. No animals can be intentionally killed for the purpose of collecting specimens. Any invasively collected samples can only be collected by trained personnel. This notification covers activities conducted by the applicant over a period of 5 years.

Applicant: Mary K. Gonder & John F. Oates, Department of Anthropology, Hunter College—City University of New York, New York, NY, PRT-810330.

The applicant requests a permit to import hair samples from wild chimpanzees (Pan troglodytes) collected from their sleeping nests and hair and skin sections collected from preserved zoo and museum specimens in Nigeria and Cameroon. In addition, the applicant requests to import hair samples from wild gorillas (Gorilla gorilla) collected from sleeping nests in Nigeria, for the purpose of scientific research. This notification covers activities conducted by the applicant over a period of 5 years.

Applicant: The Denver Zoo, Denver, CO PRT-045329.

The applicant requests a permit to conduct interstate commerce by paying a management fee to the Dickerson Zoo, Springfield, MO, for successful breeding of their female captive held Asian elephant (Elaphus maximus) as recommended by the American Zoological Association's Species Survival Coordinator, for the purpose of enhancement of survival of the species.

Applicant: Hawthorn Corporation, Grayslake, IL, PRT-843874.

The applicant requests the re-issuance of the permit to re-export and re-import tigers (Panthera tigris) and progeny of the animals currently held by the applicant and any animals acquired in the United States by the applicant to/from worldwide locations to enhance the survival of the species through conservation education. This notification covers activities conducted by the applicant over a three year period.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: September 21, 2001.
Anna Barry,
Senior Permit Biologist, Branch of Permits, Division of Management Authority.

[FR Doc. 01-26237 Filed 10-17-01; 8:45 am]

BILLING CODE 4310-55-P